DEPARTMENT OF ENERGY

Federal Energy Regulatory Commission

Combined Notice of Filings #1

Take notice that the Commission received the following electric rate filings:

Docket Numbers: ER10-2238-006; ER10-2239-006; ER10-2237-005; ER12-896-002.

Applicants: Indigo Generation LLC, Larkspur Energy LLC, Wildflower Energy LP, Mariposa Energy, LLC.

Description: Supplement to June 13, 2013 Triennial Market Power Analysis for the Southwest Region of the DGC Southwest Sellers.

Filed Date: 3/13/14.

Accession Number: 20140313-5087.

Comments Due: 5 p.m. ET 3/24/14.

Docket Numbers: ER14-603-001.

Applicants: Midcontinent Independent System Operator, Inc.

Description: 2014-03-12_SA 1519 G132 Unexecuted Amended GIA Deficiency Response to be effective 12/13/2013.

Filed Date: 3/12/14.

Accession Number: 20140312-5335.

Comments Due: 5 p.m. ET 4/2/14.

Docket Numbers: ER14-616-001.

Applicants: New England Power Pool Participants Committee, ISO New England Inc.

Description: ORTP Compliance Filing to be effective 2/11/2014.

Filed Date: 3/13/14.

Accession Number: 20140313-5068.

Comments Due: 5 p.m. ET 4/3/14.

Docket Numbers: ER14-801-001.

Applicants: Midcontinent Independent System Operator, Inc.

Description: 2014-03-13 Docket No. ER14-801-000_GVTC Compliance Filing to be effective 2/21/2014.

Filed Date: 3/13/14.

Accession Number: 20140313-5086.

Comments Due: 5 p.m. ET 4/3/14.

Docket Numbers: ER14-822-001.

Applicants: PJM Interconnection, L.L.C.

Description: Response to Deficiency Letter dated 3/6/2014 in Docket No. ER14-822 to be effective 3/15/2014.

Filed Date: 3/12/14.

Accession Number: 20140312-5316.

Comments Due: 5 p.m. ET 3/24/14.

Docket Numbers: ER14-864-001.

Applicants: New York Independent System Operator, Inc.

Description: NYISO compliance re: Proxy generator bus pricing rules to be effective 4/8/2014.

Filed Date: 3/13/14.

Accession Number: 20140313-5073.

Comments Due: 5 p.m. ET 4/3/14.

Docket Numbers: ER14-1471-000.

Applicants: Midcontinent Independent System Operator, Inc.

Description: 2014-03-11_SA 2637 Border Winds-NSP E&P Agreement (J290) to be effective 3/13/2014.

Filed Date: 3/12/14.

Accession Number: 20140312-5332.

Comments Due: 5 p.m. ET 4/2/14.

Docket Numbers: ER14-1474-000.

Applicants: WSPP Inc.

Description: List of Members Update to be effective 3/3/2014.

Filed Date: 3/12/14.

Accession Number: 20140312-5299.

Comments Due: 5 p.m. ET 4/2/14.

Docket Numbers: ER14-1475-000.

Applicants: Invenergy Nelson LLC.

Description: Request of Invenergy Nelson LLC for Limited Waiver of the PJM Interconnection, L.L.C. Tariff, for Shortened Comment Period and for Expedited Action.

Filed Date: 3/12/14.

Accession Number: 20140312-5322.

Comments Due: 5 p.m. ET 3/26/14.

Docket Numbers: ER14-1476-000.

Applicants: PJM Interconnection, L.L.C.

Description: Queue Position Y1-003; Original Service Agreement No. 3777 to be effective 2/11/2014.

Filed Date: 3/13/14.

Accession Number: 20140313-5034.

Comments Due: 5 p.m. ET 4/3/14.

Docket Numbers: ER14-1477-000.

Applicants: New England Power Pool Participants Committee, ISO New England Inc.

Description: ORTP Revisions for FCA 9 to be effective 5/13/2014.

Filed Date: 3/13/14.

Accession Number: 20140313-5069.

Comments Due: 5 p.m. ET 4/3/14.

Docket Numbers: ER14-1478-000.

Applicants: Southwest Power Pool, Inc.

Description: 2817 Flat Ridge 2 Wind Energy & Westar Meter Agent Agreement to be effective 3/1/2014.

Filed Date: 3/13/14.

Accession Number: 20140313-5093.

Comments Due: 5 p.m. ET 4/3/14.

Docket Numbers: ER14-1479-000.

Applicants: Southwest Power Pool, Inc.

Description: 2802 Arkansas Electric Cooperative Corporation & Westar Meter Agent Agreement to be effective 3/1/2014.

Filed Date: 3/13/14.

Accession Number: 20140313-5094.

Comments Due: 5 p.m. ET 4/3/14.

Docket Numbers: ER14-1480-000.

Applicants: KMC Thermo, LLC.

Description: Notice of Succession—Reactive Power Tariff to be effective 6/1/2014.

Filed Date: 3/13/14.

Accession Number: 20140313-5099.

Comments Due: 5 p.m. ET 4/3/14.

Docket Numbers: ER14-1481-000.

Applicants: Southwest Power Pool, Inc.

Description: 2810 City of Chanute & Westar Energy Meter Agent Agreement to be effective 3/13/2014.

Filed Date: 3/13/14.

Accession Number: 20140313-5101.

Comments Due: 5 p.m. ET 4/3/14.

Docket Numbers: ER14-1482-000.

Applicants: Southwest Power Pool, Inc.

Description: 2827 Kansas Power Pool & Westar Meter Agent Agreement to be effective 3/1/2014.

Filed Date: 3/13/14.

Accession Number: 20140313-5102.

Comments Due: 5 p.m. ET 4/3/14.

Docket Numbers: ER14-1483-000.

Applicants: PJM Interconnection, L.L.C.

Description: Original Service Agreement No. 3776; Queue No. T16 to be effective 2/11/2014.

Filed Date: 3/13/14.

Accession Number: 20140313-5103.

Comments Due: 5 p.m. ET 4/3/14.

Docket Numbers: ER14-1484-000.

Applicants: Southwestern Public Service Company.

Description: 2014-3-13_GSEC-LYNGR-CA-Welch-659-0.0.0—Filing to be effective 5/12/2014.

Filed Date: 3/13/14.

Accession Number: 20140313-5110.

Comments Due: 5 p.m. ET 4/3/14.

Take notice that the Commission received the following open access transmission tariff filings:

Docket Numbers: OA08-111-006.

Applicants: Portland General Electric Company.

Description: Annual Informational Filing on Operational Penalty Assessments and Distributions as Required by Order Nos. 890 and 890-A of Portland General Electric.

Filed Date: 3/13/14.

Accession Number: 20140313-5012.

Comments Due: 5 p.m. ET 4/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2014.
Nathaniel J. Davis, Sr.,
Deputy Secretary.

[FR Doc. 2014-06213 Filed 3-20-14; 8:45 am]

BILLING CODE 6717-01-P